DEPARTMENT OF JUSTICE

Notice of Lodging of Consent Decree Under the Comprehensive Environmental Response, Compensation, and Liability Act

Notice is hereby given that on August 15, 2006, a proposed Consent Decree in United States v. The Sherwin-Williams Company et al., Civil Action Number 00-2064, was lodged with the United States District Court for the Central District of Illinois.

The proposed consent decree resolves claims against The Sherwin-Williams Company, The Glidden Company, and Speciality Coatings Company, Inc. (collectively, “Defendants”), under Section 107 of the Comprehensive Environmental Response, Compensation, and Liability Act (“CERCLA”), 42 U.S.C. 9607, for the reimbursement of response costs incurred and to be incurred by EPA, in connection with the release and threatened release of hazardous substances at the Cross Brothers Pail Recycling Superfund Site in Pembroke Township, Kankakee County, Illinois (“the Site”).

Under the proposed Consent Decree, Defendants will reimburse the United States $200,000 in outstanding past response costs at the Site.

The Department of Justice will receive, for a period of thirty (30) days from the date of this publication, comments relating to the Consent Decree. Comments should be addressed to the Assistant Attorney General, Environment and Natural Resources Division, P.O. Box 7611, U.S. Department of Justice, Washington, DC 20044-7611, with a copy to Matthew A. Fogelson, Trial Attorney, U.S. Department of Justice, Environment and Natural Resources Division, Environmental Enforcement Section, 301 Howard Street, Suite 1050, San Francisco, CA 94105, and should refer to United States v. The Sherwin-Williams Company et al., DOJ Ref. #90-11-2-477/1. Commenters may request an opportunity for a public meeting in the affected area, in accordance with Section 7003(d) of RCRA, 42 U.S.C. 6973(d).

The Consent Decree may be examined at the Office of the United States Attorney, 201 S. Vine Street, Suite 226, Urbana, Illinois 61801, and the Region 5 Office of the Environmental Protection Agency, 77 West Jackson Boulevard, Chicago, Illinois 60604. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. To obtain a copy of the Consent Decree from the Consent Decree Library, please enclose a check in the amount of $4.50 (25 cents per page reproduction cost) payable to the U.S. Treasury.

W. Benjamin Fisherow,
Deputy Section Chief, Environmental Enforcement Section, Environment and Natural Resources Division.

[FR Doc. 06-7264 Filed 8-30-06; 8:45 am]

BILLING CODE 4410-15-M